DEPARTMENT OF ENERGY

Federal Energy Regulatory Commission

[Docket No. GT00-33-000]

El Paso Natural Gas Company; Notice of Proposed Changes in FERC Gas Tariff

June 29, 2000.

Take notice that on June 26, 2000, El Paso Natural Gas Company (El Paso) tendered for filing three firm Transportation Service Agreements (TSAs) between El Paso and MGI Supply, Ltd. (MGI) and Eighteenth Revised Sheet No. 1 to its FERC Gas Tariff, Second Revised Volume No. 1-A.

El Paso states that it is submitting the TSAs for Commission approval since the TSAs contain provisions which differ from El Paso's Volume No. 1-A Tariff. The tariff sheet, which references the TSAs, is proposed to become effective on August 27, 2000.

Any person desiring to be heard or to protest said filing should file a motion to intervene or a protest with the Federal Energy Regulatory Commission, 888 First Street, NE, Washington, DC 20426, in accordance with Sections 385.214 or 385.211 of the Commission's Rules and Regulations. All such motions or protests must be filed on or before July 6, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance.)

David P. Boergers,
Secretary.

[FR Doc. 00-16998 Filed 7-5-00; 8:45 am]

BILLING CODE 6717-01-M